DEPARTMENT OF HOUSING AND URBAN DEVELOPMENT

[Docket No. FR-4900-FA-30]

Announcement of Funding Awards for the Housing Choice Voucher Family Self Sufficiency Program for Fiscal Year 2004

AGENCY: Office of Public and Indian Housing, HUD.

ACTION: Announcement of funding awards.

SUMMARY: In accordance with Section 102(a)(4)(C) of the Department of Housing and Urban Development Reform Act of 1989, this announcement notifies the public of funding decisions made by the Department for funding under the Fiscal Year (FY) 2004 Notice of Funding Availability (NOFA) for the Family Self Sufficiency (FSS) Funding for FY2004. This announcement contains the consolidated names and addresses of those award recipients selected for funding based on the rating and ranking of all applications and the allocation of funding available for each state.

FOR FURTHER INFORMATION CONTACT: For questions concerning the FY2004 Family Self Sufficiency awards, contact the Office of Public and Indian Housing, Grant Management Center, Director, Iredia Hutchinson, Department of Housing and Urban Development, Washington, DC, telephone (202) 358-0221. For the hearing- or speech-impaired, these numbers may be accessed via TTY (text telephone) by calling the Federal Information Relay Service at 800-877-8339. (Other than the “800” TTY number, these telephone numbers are not toll-free.)

SUPPLEMENTARY INFORMATION: The authority for the $47,700,000 in one-year budget authority FSS program coordinators is found in the Departments of Veteran Affairs and Housing and Urban Development, and Independent Agencies Appropriations Act, FY2004 (Pub. L. 108). The allocation of housing assistance budget authority is pursuant to the provisions of 24 CFR part 791, subpart D, implementing section 213 (d) of the Housing and Community Development Act of 1974, as amended.

This program is intended to promote the development of local strategies to coordinate the use of assistance under the Housing Choice Voucher program with public and private resources to enable participating families to achieve economic independence and self-sufficiency. A FSS program coordinator assures that program participants are linked to the supportive services they need to achieve self-sufficiency.

The FY2004 awards announced in this Notice were selected for funding in a competition announced in a Federal Register NOFA published on May 14, 2004 (69 FR 27393). Applications were scored based on the selection criteria in that notice and funding selections made based on the rating and ranking of applications within each state.

In accordance with Section 102(a)(4)(C) of the Department of Housing and Urban Development Reform Act of 1989 (103 Stat. 1987, 42 U.S.C. 3545), the Department is publishing the names, addresses, and amounts of the 685 awards made under the FSS competitions.

Dated: September 22, 2006.
Paula O. Blunt,
General Deputy Assistant Secretary for Public and Indian Housing.

Appendix A.—Fiscal Year 2004 Funding Awards for the Housing Choice Voucher; Family Self Sufficiency Program
Organization | Address/City/State/Zip code | Amount
Alaska Housing Finance Corporation | P.O. Box 101020, 4300 Boniface Parkway, Anchorage, AK 99510-1020 | $62,660
Mobile Housing Authority | 151 S. Claiborne Street, Mobile, AL 36602 | 76,373
Housing Authority of the City of Montgomery, Alabama | 1020 Bell Street, Montgomery, AL 36104 | 68,690
Selma Housing Authority | P.O. Box 950, 444 Washington Street, Selma, AL 36702-0950 | 50,500
Housing Authority of the City of Huntsville, Alabama | P.O. Box 486, 200 Washington Street, Huntsville, AL 35801 | 45,000
Housing Authority of the City of Decatur, Alabama | 100 Wilson Street North East, Decatur, AL 35601 | 33,091
Florence Housing Authority | 303 North Pine Street, Florence, AL 35630 | 45,433
Tuscaloosa Housing Authority | P.O. Box 2281, Tuscaloosa, AL 35403-2281 | 48,989
Jefferson County Housing Authority | 3700 Industrial Parkway, Birhimgham, AL 35117 | 80,344
Housing Authority of the City of Prichard, Alabama | 800 Hinson Avenue, Prichard, AL 36610 | 44,345
Jefferson County Housing Authority | 3700 Industrial Parkway, Birhimgham, AL 35117 | 40,172
The Housing Authority of the City of Huntsville, Alabama | P.O. Box 486, 200 Washington Street, Huntsville, AL 35801 | 45,000
Housing Authority of the City of Fort Smith, Arkansas | 2100 North 31st Street, Fort Smith, AR 72904 | 96,400
Housing Authority of the City of Little Rock | 1000 Wolfe Street, Little Rock, AR 72202 | 38,341
Northwest Regional Housing Authority | P.O. Box 2568, Harrison, AR 72602 | 39,025
Housing Authority of the City of Arkadelphia | 670 South 6th Street, Arkandelphia, AR 71923 | 34,340
Housing Authority of the City of Pine Bluff | P.O. Box 8872, Pine Bluff, AR 71611 | 39,784
Housing Authority of the City of West Memphis | 2820 Harrison Street, West Memphis, AR 72301 | 33,459
Housing Authority of the City of Hot Springs | P.O. Box 1257, Hot Springs, AR 71902 | 36,237
Wynne Housing Authority | 200 Fisher Place, P.O. Box 552, Wynne, AR 72373 | 26,523
Housing Authority of the City of Hope | 720 Texas Street, Hope, AR 71801-6327 | 29,795
Jonesboro Urban Renewal & Housing Authority | 330 Union Street, Jonesboro, AR 72401 | 40,000
Conway County Housing Authority | P.O. Box 229, 123 South Cherokee, Morrilton, AR 72110 | 38,000
Benton Public Housing Authority | 1200 West Pine, Benton, AR 72015 | 30,057
Pope County Public Facilities Board | P.O. Box 846, 301 East 3rd Street, Russellville, AR 72811 | 33,963
St Francis County Housing Authority | P.O. Box 310, 116 South Izard Street, Forrest City, AR 72336-0310 | 42,892
Pulaski County Housing Agency | 201 South Broadway, Suite 220, Little Rock, AR 72201 | 33,787
McGehee Public Residential Housing Facilities Board | P.O. Box 725, 300 Shady Lane, McGehee, AR 71654 | 30,300
North Little Rock Housing Authority | P.O. Box 516, 2501 Willow Street, North Little Rock, AR 72115 | 42,323
Yuma County | 8450 West Highway 95, Suite 88, Somerton, AR 85350 | 28,063
Housing Authority of the City of Pine Bluff | P.O. Box 8872, Pine Bluff, AR 71611 | 38,400
Housing Authority of the City of Arkadelphia | 670 South 6th Street, Arkandelphia, AR 71923 | 34,000
Conway County Housing Authority | P.O. Box 229, 123 South Cherokee, Morrilton, AR 72110 | 32,000
City of Phoenix Housing Department | 251 West Washington, 4th Floor, Phoenix, AZ 65003 | 126,000
City of Tucson | PO Box 27210, 310 North Commerce Park Loop, Tucson, AZ 85726-7210 | 113,342
Mesa Housing Services Division | 415 North Pasadena, Mesa, AZ 85201 | 92,808
Housing Authority of Maricopa County | 2024 North 7th Street, Phoenix, AZ 85006 | 40,974
City of Chandler | P.O. Box 4008, Mail Stop #101, Chandler, AZ 85244-4008 | 59,348
City of Tempe Housing Services | 21 East Sixth Street, Suite 214, Tempe, AZ 85281 | 63,000
City of Scottsdale Housing Authority | 7522 East 1st Street, Scottsdale, AZ 85251 | 52,445
Housing Authority of the City of Yuma | 420 South Madison Avenue, Yuma, AZ 85364 | 133,878
Mohave County Housing Authority | PO Box 7000, Kingman, AZ 86402 | 36,101
Oakland Housing Authority | 1619 Harrison Street, Oakland, CA 94612 | 126,000
Housing Authority of the City of Fresno | P.O. Box 11985, Fresno, CA 93776 | 244,324
Housing Authority of the County of Contra Costa | P.O. Box 2759, 3133 Estudillo Street, Martinez, CA 94533 | 63,000
Housing Authority of County of San Mateo | 264 Harbor Boulevard, Building A, Belmont, CA 94002 | 122,412
Houisng Authority of the County of Merced | 405 U/Street, Merced, CA 95340 | 103,417
Housing Authority of the City of Stanislaus | P.O. Box 581918, 1701 Robertson Road, Modesto, CA 95358-0033 | 52,863
Housing Authority of the County of Fresno | P.O. Box 11985, Fresno, CA 93776 | 247,211
Housing Authority of the County of Monterey | 123 Rico Street, Salinas, CA 93907 | 60,790
City of Benecia Housing Authority | 28 Riverhill Drive, Benicia, CA 94510 | 119,352
Housing Authority of the County of Marin | 4020 Civic Center Drive, San Rafael, CA 94903 | 106,989
Housing Authority of the County of Kings | P.O. Box 355, Hanford, CA 93230 | 60,956
Houisng Authority of the City of Vallejo | 200 Georgia Street, Vallejo, CA 94590 | 126,000
Housing Authority of the City of San Jose | 505 West Julian Street, San Jose, CA 95110-2300 | 63,000
Housing Authority of the County of Santa Clara | 505 W. Julian Street, San Jose, CA 95110-2300 | 126,000
Fairfield Housing Authority | 823-B Jefferson Street, Fairfield, CA 94533 | 101,406
Housing Authority of the County of Alameda | 22941 Atherton Street, Hayward, CA 94541-6633 | 126,000
Housing Authority of the City of Madera | 205 North G Street, Madera, CA 93637 | 53,433
Housing Authority of the County of Santa Cruz | 2160 41st Avenue, Capitola, CA 95010 | 63,000
Housing Authority of the City of Napa | P.O. Box 660, Napa, CA 94559-0660 | 126,000
Sonoma County Community Development Commission | 1440 Guerneville Road, Santa Rosa, CA 95403 | 63,000
Vacaville Housing Authority | 40 Eldridge Avenue, Suite 2, Vacaville, CA 95688 | 126,000
Solano County Housing Authority | 470 Chadbourne Road, Fairfield, CA 94534 | 53,025
Housing Authority of the County of Los Angeles | 12131 Telegraph Road, Santa Fe Springs, CA 90670 | 47,282
Housing Authority of the County of Kern | 601-24th Street, Bakersfield, CA 93301 | 106,472
Housing Authority of the City of Upland, CA | 1226 North Campus Avenue, Upland, CA 91786 | 33,824
Housing Authority of the County of San Bernandino | 715 East Brier Drive, San Bernardino, CA 92408 | 115,738
Houisng Authority of the County of Santa Barbara | 815 West Ocean Avenue, Lompoc, CA 93436 | 126,000
Oxnard Housing Authority | 435 D Street, Oxnard, CA 93030 | 59,880
Housing Authority of the City of San Buenaventura | 4567 Telephone Road, Suite 100, Ventura, CA 93003 | 51,763
San Diego Housing Commission | 1625 Newton Avenue, San Diego, CA 92113-1038 | 252,000
Housing Authority of the City of San Luis Obispo | 487 Leff Street, San Luis Obispo, CA 93401 | 48,587
Housing Authority of the City of Madera | 521 East 4th Street, Long Beach, CA 90802 | 244,572
Housing Authority of the City of Santa Barbara | 808 Laguna Street, Santa Barbara, CA 93101 | 126,000
Area Housing Authority of the County of Ventura | 1400 West Hillcrest Drive, Newbury Park, CA 91320 | 63,000
City of Santa Ana | P.O. Box 22030 (M-27), Santa Ana, CA 92702 | 122,412
Orange County Housing Authority | 1770 North Broadway, Santa Ana, CA 92706-2642 | 122,452
City of Anaheim Housing Authority | 201 South Anaheim Boulevard, Suite 201, Anaheim, CA 92805 | 123,548
Housing Authority of the County of San Diego | 3989 Ruffin Road, San Diego, CA 92123 | 48,659
Culver City Housing Authority | 9770 Culver Boulevard, Culver City, CA 90232 | 62,470
Santa Monica Housing Authority | 2121 Cloverfield Boulevard, #131, Santa Monica, CA 90404 | 63,000
Housing Authority of the City of Glendale | 141 North Glendale Avenue, Room 202, Glendale, CA 91206 | 63,000
City of Norwalk Housing Authority | 12035 Firestone Boulevard, Norwalk, CA 90650 | 60,892
City of Oceanside Community Development Commission | Nevada Street Annex, 300 North Coast Highway, Oceanside, CA 92054 | 118,070
Housing Authority of the City of Lakewood | 5050 Clark Avenue, Lakewood, CA 90712 | 47,282
Sacramento City Housing Authority | 630 I Street, Sacramento, CA 95814 | 94,031
Housing Authority for the County of San Joaquin | 448 South Center Street, P.O. Box 447, Stockton, CA 95201 | 101,055
Housing Authority of the County of Yolo | 1224 Lemen Avenue, Woodland, CA 95776 | 46,068
Consolidated Area Housing Authority of Sutter County | 448 Garden Highway, P.O. Box 631, Yuba City, CA 95992 | 48,965
Housing Authority of the City of Redding | 777 Cypress Avenue, P.O. Box 496071, Redding, CA 96001 | 55,315
Roseville Housing Authority | 311 Vernon Street, Roseville, CA 95678 | 63,000
El Dorado County Public Housing Authority | 937 Spring Street, Placerville, CA 95667 | 90,288
City of Pomona Housing Authority | 505 South Garey Avenue, Pomona, CA 91769 | 63,000
San Diego Housing Commission | 1625 Newton Avenue, San Diego, CA 92113-1038 | 63,000
Housing Authority of the County of Contra Costa | P.O. Box 2759, 3133 Estudillo Street, Martinez, CA 94533 | 52,047
Sacramento City Housing Authority | 630 I Street, Sacramento, CA 95814 | 63,000
Housing Authority of the County of Alameda (HACA) | 22941 Atherton Street, Hayward, CA 94541-6633 | 63,000
Housing Authority of the City of San Buenaventura | 4567 Telephone Road, Suite 100, Ventura, CA 93003 | 51,763
The Housing Authority of the City of Madera | 205 North G Street, Madera, CA 93637 | 48,938
Solano County Housing Authority | 470 Chadbourne Road, Fairfield, CA 94534 | 63,000
Housing Authority of the City & County of Denver | 777 Grant Street, Denver, CO 80203 | 128,190
Housing Authority City of Pueblo | 1414 North Santa Fe Avenue, Pueblo, CO 81003 | 40,323
Housing Authority of the City of Colorado Springs | P.O. Box 1575, Colorado Springs, CO 80901 | 46,925
Housing Authority of City of Loveland | 375 West 37th Street, Suite 200, Loveland, CO 80538 | 39,936
Fort Collins Housing Authority | 1715 West Mountain Avenue, Fort Collins, CO 80521 | 53,419
Englewood Housing Authority | 3460 S. Sherman, Suite 101, Englewood, CO 80113 | 42,420
Lakewood Housing Authority | 480 S. Allison Parkway, Lakewood, CO 80226 | 37,199
Arvada Housing Authority | 8001 Ralston Road, Arvada, CO 80002 | 37,199
Grand Junction Housing Authority | 1011 North 10th Street, Grand Junction, CO 81527 | 29,051
Housing Authority of the City of Aurora | 10745 Kentucky Avenue, Aurora, CO 80012 | 42,674
Adams County Housing Authority | 7190 Colorado Boulevard, Commerce City, CO 80022 | 88,536
Boulder County Housing Authority | P.O. Box 471, Boulder, CO 80306 | 58,180
Jefferson County Housing Authority | 6025 W. 38th Avenue, Wheat Ridge, CO 80033 | 37,199
Colorado Department of Human Services | 4020 South Newton Street, Denver, CO 80236 | 54,194
Colorado Division of Housing | 1313 Sherman Street, Room 518, Denver, CO 80203 | 66,561
Fort Collins Housing Authority | 1715 West Mountain Avenue, Fort Collins, CO 80521 | 55,875
Jefferson County Housing Authority | 6025 W. 38th Avenue, Wheat Ridge, CO 80033 | 37,199
Housing Authority of the City of Loveland | 375 West 37th Street, Suite 200, Loveland, CO 80538 | 39,936
Housing Authority of the City of Bridgeport | 150 Highland Avenue, Bridgeport, CT 6604 | 41,219
Housing Authority of the City of Norwalk | P.O. Box 508, 24½ Monroe Street, Norwalk, CT 06856-0508 | 63,000
Housing Authority of the City of Meriden | 22 Church Street, Meriden, CT 6451 | 50,144
Housing Authority of the City of Ansonia | 36 Main Street, Ansonia, CT 6401 | 50,890
Connecticut Department of Social Services | 25 Sigourney Street, Hartford, CT 6106 | 63,000
Housing Authority of the City of New Haven | 360 Orange Street, New Haven, CT 06511 | 53,366
Housing Authority of the City of Norwalk | P.O. Box 508, 24½ Monroe Street, Norwalk, CT 06856-0508 | 63,000
Housing Authority of the City of Ansonia | 36 Main Street, Ansonia, CT 06401 | 50,890
District of Columbia Housing Authority | 1133 North Capitol Street, North East, Washington, DC 20002 | 126,000
Housing Authority of the City of Tampa | 1529 Main Street, Tampa, FL 33607 | 122,381
Housing Authority of the City of Sarasota | 1300 Boulevard of the Arts, Sarasota, FL 34236 | 34,000
West Palm Beach Housing Authority | 1715 Division Avenue, West Palm Beach, FL 33407 | 34,174
Housing Authority of the City of Fort Lauderdale | 437 South West 4th Avenue, Fort Lauderdale, FL 33315 | 61,776
Housing Authority of the City of Lakeland, FL | 430 S Harstell Avenue, Lakeland, FL 33815 | 46,770
Housing Authority of the City of Miami Beach | 200 Alton Road, Miami Beach, FL 33139 | 60,600
Pahokee Housing Authority, Inc. | 465 Friend Terrace, Pahokee, FL 33476 | 24,482
Fort Pierce Housing Authority | 707 North Seventh Street, Fort Pierce, FL 34950 | 63,000
Hialeah Housing Authority | 75 East 6th Street, Hialeah, FL 33010 | 68,214
Clearwater Housing Authority | 908 Cleveland Street, Clearwater, FL 33756 | 45,000
Broward County Housing Authority | 3810 Inverrary Blvd., Suite 405, Lauderhill, FL 33319 | 46,794
Palm Beach County Housing Authority | 3432 West 45th Street, West Palm Beach, FL 33407 | 36,469
Deerfield Beach Housing Authority | 425 NW 1 Terrace, Deerfield Beach, FL 33441 | 15,023
Delray Beach Housing Authority | 770 South West 12th Terrace, Delray Beach, FL 33444 | 45,000
City of Fort Myers Community Redevelopment | 1700 Medical Lane, Ft. Myers, FL 33907 | 89,269
Boca Raton Housing Authority | 201 West Palmetto Park Road, Boca Raton, FL 33432 | 29,795
Hollywood Housing Authority | 7350 North Davie Road Ext, Hollywood, FL 33024 | 19,132
The Housing Authority of the City of Orlando, Florida | 300 Reeves Court, Orlando, FL 32801 | 97,223
Housing Authority of the City of Daytona Beach | 118 Cedar Street, Daytona Beach, FL 32114 | 35,778
Ocala Housing Authority | 233 Southwest 3rd Street, Ocala, FL 34474 | 48,910
City of Pensacola Department of Housing | P.O. Box 12910, Pensacola, FL 32521-0031 | 29,119
Pasco County Housing Authority | 14517 7th Street, Dade City, FL 33523 | 31,159
Hernando County Housing Authority | 20 North Main Street, Room # 205, Brooksville, FL 34601 | 48,659
Homestead Housing Authority | 29355 South Federal Highway, Homestead, FL 33030 | 53,000
Miami-Dade Housing Agency (MDHA) | 1401 Northwest 7th Street, Miami, FL 33125 | 63,000
Palm Beach County Housing Authority | 3432 West 45th Street, West Palm Beach, FL 33407 | 35,000
Clearwater Housing Authority | 908 Cleveland Street, Clearwater, FL 33756 | 36,000
City of Fort Myers Community Redevelopment | 1700 Medical Lane, Ft. Myers, FL 33907 | 44,000
Augusta Housing Authority | PO Box 3246, 1435 Walton Way, Augusta, GA 30914-3246 | 96,667
Housing Authority of Savannah | P. O. Box 1179, Savannah, GA 31402 | 67,963
Housing Authority of the City of Rome, Georgia | 800 North Fifth Avenue, P.O. Box1428, Rome, GA 30165 | 47,622
Housing Authority of the City of Atlanta, Georgia | 230 John Wesley Dobbs Avenue, North East, Fulton, GA 30303-2421 | 116,738
Macon Housing Authority | P.O. Box 4928, 2015 Felton Avenue, Macon, GA 31208-4928 | 80,890
Housing Authority, City of Brunswick | P. O. Box 1118, Brunswick, GA 31521-1118 | 40,859
Housing Authority of the City of Decatur, Georgia | 750 Commerce Drive, Suite 110, Decatur, GA 30030 | 50,397
Housing Authority of the City of Jonesboro | 203 Hightower Street, P.O. Box 458, Jonesboro, GA 30236 | 37,269
Housing Authority of Fulton County | 10 Park Place South, South East, Suite 550, Atlanta, GA 30303-2913 | 43,864
City of Marietta Georgia | 205 Lawrence Street, Marietta, GA 30060 | 53,943
Housing Authority of Newnan | 48 Ball Street, Newnan, GA 30263 | 30,000
The Housing Authority of the City of Atlanta, Georgia | 230 John Wesley Dobbs Avenue, North East, Fulton, GA 30303-2421 | 53,713
City and County of Honolulu | Honolulu Hale, Honolulu, HI 96813 | 96,540
Kauai County Housing Agency | 4444 Rice Street, Suite 330, Lihue, HI 96766 | 57,326
Housing and Community Development Corporation of Hawaii | 677 Queen Street, Suite 300, Hawaii, HI 96813 | 58,387
Kauai County Housing Agency | 4444 Rice Street, Suite 330, Lihue, HI 96766 | 50,908
City of Sioux City Housing Authority | P.O. Box 447, Sioux City, IA 51102 | 63,000
Des Moines Municipal Housing Agency | 100 East Euclid, Suite 101, Des Moines, IA 50313 | 56,383
Iowa City Housing Authority | 410 East Washington Street, Iowa City, IA 52240 | 63,000
Municipal Housing Agency of Council Bluffs, Iowa | 505 South 6th Street, Council Bluffs, IA 51501 | 45,855
City of Cedar Rapids | 1211 6th Street South West, Cedar Rapids, IA 52404 | 94,910
Waterloo Housing Authority | 620 Mulberry Street, Waterloo, IA 50703 | 49,086
City of Dubuque | 1805 Central Avenue, Dubuque, IA 52001 | 66,163
Municipal Housing Agency of the City of Fort Dodge | 700 South 17th Street, Fort Dodge, IA 50501 | 93,880
Region XII Regional Housing Authority | P.O. Box 663, 108 West 6th Street, Carroll, IA 51401 | 43,465
Eastern Iowa Regional Housing Authority | 3999 Pennsylvania Avenue, Suite 200, Dubuque, IA 52002 | 56,512
Central Iowa Regional Housing Authority | 950 Office Park Road, Suite 321, West Des Moines, IA 50265 | 55,284
Mid Iowa Regional Housing Authority | 1814 Central Avenue, Fort Dodge, IA 50501-4236 | 42,640
Northeast Nebraska Joint Housing Agency | 507 7th Street Suite 401, Sioux City, IA 51102 | 71,407
Iowa City Housing Authority | 410 East Washington Street, Iowa City, IA 52240 | 51,240
Boise City Housing Authority | 1276 River Street, Suite 300, Boise, ID 83702 | 103,264
Southwestern Idaho Cooperative Housing Authority | 1108 West Finch Drive, Nampa, ID 83651 | 38,490
Ada County Housing Authority | 1276 River Street, Suite 300, Boise, ID 83702 | 51,632
Idaho Housing and Finance Association | P.O. Box 7899, Boise, ID 83707-1899 | 171,604
Idaho Housing and Finance Association | P.O. Box 7899, Boise, ID 83707-1899 | 48,664
Southwestern Idaho Cooperative Housing Authority | 1108 West Finch Drive, Nampa, ID 83651 | 46,322
Ada County Housing Authority | 1276 River Street, Suite 300, Boise, ID 83702 | 51,632
Housing Authority of the City of East St Louis | 700 North 20th, East St. Louis, IL 62205 | 63,000
Chicago Housing Authority | 626 West Jackson Boulevard, Chicago, IL 60661 | 521,796
Peoria Housing Authority | 100 South Richard Pryor Place, Peoria, IL 61605 | 46,795
Springfield Housing Authority | 200 North Eleventh Street, Springfield, IL 62703 | 42,137
Madison County Housing Authority | 1609 Olive Street, Collinsville, IL 62234 | 41,544
Rockford Housing Authority | 223 South Winnebago Street, Rockford, IL 61102-2259 | 177,556
Housing Authority of the County of Cook | 310 South Michigan Avenue, 15th Floor, Chicago, IL 60604 | 48,333
Dupage Housing Authority | 711 E. Roosevelt Rd., Wheaton, IL 60187 | 85,850
Housing Authority of the City of Vincennes | P.O. Box 1636, 501 Hart Street, Vincennes, IN 47591 | 82,214
Fort Wayne Housing Authority | 2013 South Anthony Boulevard, Fort Wayne, IN 46803 | 75,488
Housing Authority of the City of Muncie | 409 East First Street, Muncie, IN 47302 | 23,735
Housing Authority of the City of Kokomo | P.O. Box 1207, 210 East Taylor Street, Kokomo, IN 46903-1207 | 39,244
Housing Authority of the City of Hammond | 7329 Columbia Circle-West, Hammond, IN 46324-2831 | 55,975
Housing Authority of the City of New Albany | P.O. Box 11, 500 Scribner Drive, New Albany, IN 47151-0011 | 40,592
Housing Authority of the City of South Bend | 501 Alonzo Watson Drive, South Bend, IN 46601 | 35,316
Indianapolis Housing Agency | 1919 North Meridian Street, Indianapolis, IN 46202-1303 | 143,834
Housing Authority of the City of Terre Haute | P.O. Box 3086, One Dreiser Sqaure, Terre Haute, IN 47803-0086 | 106,935
Housing Authority of the City of Bloomington | P.O. Box 1815, 1007 North Summit Street, Bloomington, IN 47402 | 38,254
Housing Authority, City of Elkhart | 1396 Benham Avenue, Elkhart, IN 46516-3341 | 45,095
Housing Authority of the City of Marion | 601 South Adams Street, Marion, IN 46953 | 33,150
Housing Authority of the City of Columbia | 799 McClure Road, Columbus, IN 47201-6610 | 47,196
Knox County Housing Authority | 11 Powell Street, Bicknell, IN 47512 | 30,603
Lafayette Housing Authority | P.O. Box 6687, 100 Executive Drive, Suite J, Lafayette, IN 47905 | 38,075
Housing Authority City of Peru | 701 East Main Street, Peru, IN 46970 | 33,514
Housing Authority of the City of Goshen | 0204 East Jefferson Street,Suite 6, Goshen, IN 46528 | 48,495
Indiana Family and Social Services Division of Family and Children | 402 West Washington Street, Post Office Box 6116, Indianapolis, IN 46206-6116 | 47,853
Evansville Housing Authority | 411 South East 8th Street, Evansville, IN 47713 | 32,032
Housing Authority of the City of Goshen | 0204 East Jefferson Street, Suite 6, Goshen, IN 46528 | 48,015
The Housing Authority of the City of Bloomington | P.O. Box 1815, 1007 North Summit Street, Bloomington, IN 47402 | 35,000
Housing Authority, City of Elkhart | 1396 Benham Avenue, Elkhart, IN 46516-3341 | 37,700
Indianapolis Housing Agency | 1919 North Meridian Street, Indianapolis, IN 46202-1303 | 45,450
City of Wichita Housing Authority | 332 North Riverview, Wichita, KS 67203 | 108,061
Lawrence-Douglas County Housing Authority | 1600 Haskell Avenue, Lawrence, KS 66044 | 32,690
Housing Authority of Olathe, KS | P.O. Box 768, Olathe, KS 66051-0768 | 47,500
Topeka Housing Authority | 2010 Southeast California Avenue, Topeka, KS 66607 | 40,269
Lawrence-Douglas County Housing Authority | 1600 Haskell Avenue, Lawrence, KS 66044 | 35,568
Louisville Metro Housing Authority | 420 S. 8th St., Louisville, KY 40203 | 364,200
Housing Authority of Somerset | P.O. Box 449, Somerset, KY 42502-0449 | 39,895
Housing Authority of Cynthiana | P.O. Box 351, 148 Federal Street, Cynthiana, KY 41031 | 48,437
Campbellsville Housing & Redevelopment Authority | 400 Ingram Avenue, P.O. Box 597, Campbellsville, KY 42718 | 28,720
Pike County Housing Authority | P.O. Box 1468, 142 Trivette Drive, Pikeville, KY 41502 | 60,600
Lexington-Fayette Urban County Housing Authority | 300 West New Circle Road, Lexington, KY 40505 | 47,602
City of Covington | 638 Madison Avenue, 2nd floor, Covington, KY 41011 | 33,538
Boone County Fiscal Court | 2950 Washington Street, Burlington, KY 41005 | 63,000
City of Paducah Section 8 Housing | P.O. Box 2267, 300 South 5th Street, Room 208, Paducah, KY 42002-2267 | 36,351
Barbourville Urban Renewal & Community Development Agency | P.O. Box 84, 339 Court Square, Barbourville, KY 40906 | 30,820
Cumberland Valley Regional Housing Authority | P.O. Box 806, 338 Court Square, Barbourville, KY 40906 | 59,404
Appalachian Foothills Housing Agency, Inc. | 1214 Riverside Boulevard, Wurtland, KY 41144 | 46,925
City of Bowling Green/Section 8 | P.O. Box 430, 1017 College Street, Bowling Green, KY 42102-0430 | 38,781
Kentucky Housing Corporation | 1231 Louisville Road, Frankfort, KY 40601 | 150,307
Housing Authority of Newport, KY | P.O. Box 459, 301 Isabella Street, Newport, KY 41072 | 44,067
Louisville Metro Housing Authority | 420 S. 8th St., Louisville, KY 40203 | 60,700
Housing Authority of New Orleans | 4100 Touro Street, New Orleans, LA 70122 | 73,730
Housing Authority of the City of Shreveport | 2500 Line Avenue, Shreveport, LA 71104 | 64,894
Housing Authority of the City of Monroe | 300 Harrison Street, Monroe, LA 71201 | 25,875
Housing Authority of Jefferson Parish | 1718 Betty Street, Marrero, LA 70072 | 105,323
Housing Authority of the City of Natchitoches, LA | 536 Culbertson Lane, P.O. Box 754, Natchitoches, LA 71458-0754 | 45,450
Calcasieu Parish Housing Department | 101 Lakeshore Drive, Suite 602, Lake Charles, LA 70601 | 56,611
Lowell Housing Authority | P.O. Box 60, 350 Moody Street, Lowell, MA 1853 | 63,000
Boston Housing Authority | 52 Chauncy Street, Boston, MA 2111 | 122,010
Holyoke Housing Authority | 475 Maple Street, Suite One, Holyoke, MA 1040 | 94,558
Worcester Housing Authority | 40 Belmont Street, Worcester, MA 1605 | 61,847
Medford Housing Authority | 121 Riverside Avenue, Medford, MA 2155 | 47,470
Woburn Housing Authority | 59 Campbell Street, Woburn, MA 1801 | 54,115
Quincy Housing Authority | 80 Clay Street, Quincy, MA 2170 | 109,077
Lynn Housing Authority & Neighborhood Development (LHAND) | 10 Church Street, Lynn, MA 1902 | 57,126
Brockton Housing Authority | 45 Goddard Road, Brockton, MA 2301 | 63,000
Gloucester Housing Authority | P.O. Box 1599, 257 Washington Street, Gloucester, MA 01931-1599 | 40,464
Somerville Housing Authority | 30 Memorial Road, Somerville, MA 2145 | 45,454
Braintree Housing Authority | 25 Roosevelt Street, Braintree, MA 02184-8663 | 22,543
Salem Housing Authority | 27 Charter Street, Salem, MA 1970 | 60,522
Acton Housing Authority | PO Box 681, 68 Windsor Avenue, Acton, MA 1720 | 36,980
Avon Housing Authority | 1 Fellowship Circle, Avon, MA 2322 | 29,981
Methuen Housing Authority | 24 Mystic Street, Methuen, MA 1844 | 43,430
Greenfield Housing Authority | 1 Elm Terrace, Greenfield, MA 1301 | 59,539
North Andover Housing Authority | One Morkeski Meadows, North Andover, MA 1845 | 26,533
Chelmsford Housing Authority | 10 Wilson Street, Chelmsford, MA 1824 | 43,864
Gardner Housing Authority | 116 Church Street, Gardner, MA 01440 | 48,783
Commonwealth of Massachusetts | 100 Cambridge Street, Suite 300, Boston, MA 02114 | 522,579
Greenfield Housing Authority | 1 Elm Terrace, Greenfield, MA 01301 | 59,500
Quincy Housing Authority | 80 Clay Street, Quincy, MA 02170 | 54,538
Lowell Housing Authority | P.O. Box 60,350 Moody Street, Lowell, MA 01853 | 55,000
Brockton Housing Authority | 45 Goddard Road, Brockton, MA 02301 | 63,000
Housing Authority of the City of Frederick | 209 Madison Street, Frederick, MD 21701 | 46,975
Housing Commission of Anne Arundel County | 7477 Baltimore-Annapolis Boulevard, Glen Burnie, MD 21060 | 48,995
St Mary's County Housing Authority | P.O. Box 653, 23115 Leonard Hall Drive, Governmental Center, Leonardtown, MD 20650 | 42,438
Howard County Housing Commission | 6751 Columbia Gateway Drive, 3rd Floor, Columbia, MD 21046 | 57,522
Harford County | 15 South Main Street, Suite 106, Bel Air, MD 21014 | 53,041
City of Westminster | 56 West Main Street, Westminster, MD 21157 | 42,902
Housing Authority of Washington County | 44 North Potomac Street, Hagerstown, MD 21740 | 29,295
Cecil County Housing Agency | 129 East Main Street, Elkton, MD 21921 | 44,945
Carroll County Board of Commissioners | 10 Distillery Drive, Suite 101, Westminster, MD 21157-5194 | 39,580
Baltimore County, Maryland | 6401 York Road, Baltimore, MD 21212 | 83,390
Queen Annes County Housing Authority | P.O. Box 327, Centreville, MD 21617 | 41,370
Maryland Department of Housing and Community Development | 100 Community Place, Crownsville, MD 21032 | 35,704
Housing Opportunities Commission | 10400 Detrick Avenue, Kensington, MD 20895 | 353,861
Rockville Housing Enterprises | 14 Moore Drive, Rockville, MD 20850 | 112,880
Housing Authority Prince Georges County | 9400 Peppercorn Place, Largo, MD 20774 | 126,000
Housing Authority of the City of Frederick | 209 Madison Street, Frederick, MD 21701 | 50,000
Howard County Housing Commission | 6751 Columbia Gateway Drive, 3rd Floor, Columbia, MD 21046 | 63,000
Housing Authority Prince Georges County | 9400 Peppercorn Place, Largo, MD 20774 | 63,000
Portland Housing Authority | 14 Baxter Boulevard, Portland, ME 4101 | 49,793
Westbrook Housing Authority | 30 Liza Harmon Drive, Westbrook, ME 4092 | 38,254
City of Caribou Housing Agency | 25 High Street, Caribou, ME 4750 | 45,905
Augusta Housing Authority | 33 Union Street, Suite #3, Augusta, ME 4330 | 30,603
Maine State Housing Authority | 353 Wate Street, Augusta, ME 4330 | 74,065
Saginaw Housing Commission | 1803 Norman Street, P.O. Box 3225, Saginaw, MI 48605-3225 | 83,161
Michigan State Housing Development Authority | P.O. Box 30044, 735 East Michigan Avenue, Lansing, MI 48909 | 504,000
Grayling Housing Commission | 308 Lawndale, P.O. Box 450, Grayling, MI 49738 | 35,350
Grand Rapids Housing Commission | 1420 Fuller Avenue South East, Grand Rapids, MI 49507 | 108,776
Kent County Housing Commission | 741 East Beltine Avenue North East, Grand Rapids, MI 49525-6045 | 113,639
Muskegon Housing Commission | 1080 Terrace, Muskegon, MI 49442 | 42,000
Public Housing Agency of the City of Saint Paul | 555 North Wabasha Street, Suite 400, Saint Paul, MN 55102 | 59,711
Housing & Redevelopment of Duluth, Minnesota | P.O. Box 16900, 222 East Second Street, Duluth, MN 55816-0900 | 44,905
Housing & Redevelopment Authority of Virginia, MN | P.O. Box 1146, Virginia, MN 55792 | 55,310
Mankato Economic Development Authority | 10 Civic Center Plaza, P.O. Box 3368, Mankato, MN 56002-3368 | 50,500
Dakota County Community Development Agency | 1228 Town Centre Drive, Eagan, MN 55123 | 23,435
Northwest Minnesota Multi-County Housing and Redevelopment Authority | P.O. Box 128, Mentor, MN 56736 | 35,882
Metropolitan Council | 230 East 5th Street, St. Paul, MN 55101 | 60,194
Scott County Housing and Redevelopment Authority | 323 South Naumkeag Street, Shakopee, MN 55379 | 50,500
Southeast Minnesota Multi-County Housing & Redevelopment Authority | 134 East 2nd Street, Wabasha, MN 55981 | 34,314
South Central MN Multi-County HRA | 410 Jackson Street, Suite 300, Mankato, MN 56001 | 36,558
Owatonna Housing and Redevelopment Authority | 540 West Hills Circle, Owatonna, MN 55060 | 32,581
Mankato Economic Development Authority | 10 Civic Center Plaza, P.O. Box 3368, Mankato, MN 56002-3368 | 50,000
Housing Authority of Kansas City, Missouri | 301 East Amour, Kansas City, MO 64111 | 110,760
Saint Clair County PHA | P.O. Box 125, 106 West Fourth Street, Appleton City, MO 64724 | 69,343
Housing Authority of the City of Liberty, MO | 101 East Kansas, Liberty, MO 64068 | 42,354
Jasper Couty Public Housing Authority/Ecomonic Security Corp of SW Area | PO Box 207, 302 Joplin Street, Joplin, MO 64801 | 26,557
Housing Authority of St Louis County | 8865 Natural Bridge, Saint Louis, MO 63121 | 36,844
Housing Authority of the City of St Charles | 1041 Olive, St. Charles, MO 63301 | 82,466
North East Community Action Corporation | P.O. Box 470, 16 North Court, Bowling Green, MO 63334 | 61,239
Franklin County Public Housing Agency | P.O. Box 920, Hillsboro, MO 63050 | 40,905
Phelps County Public Housing Agency | 4 Industrial Drive, St. James, MO 65559 | 51,372
Ripley County Public Housing Agency | 3019 Fair Street, Poplar Bluff, MO 63901 | 32,578
St. Louis Housing Authority | 4100 Lindell Boulevard, Saint Louis, MO 63108 | 48,285
Housing Authority of St. Louis County | 8865 Natural Bridge, Saint Louis, MO 63121 | 26,700
Housing Authority of the City of Liberty, MO | 101 East Kansas, Liberty, MO 64068 | 10,000
Saint Clair County PHA | P.O. Box 125, 106 West Fourth Street, Appleton City, MO 64724 | 35,625
Mississippi County Public Facilities Board | 810 West Keiser, Osceola, MS 72370 | 69,828
Housing Authority of the City of Biloxi | 330 Benachi Avenue, P.O. Box 447, Biloxi, MS 39530 | 30,882
Tennessee Valley Regional Housing Authority | P.O. Box 1329, Corinth, MS 38835 | 26,425
Mississippi Regional Housing Authority No IV | P.O. Box 1051, 2845 South Frontage Rpad, Columbus, MS 39703-1051 | 36,005
MS Regional Housing Authority No V | P.O. Box 419, 110 Broad Street, Newton, MS 39345 | 31,303
Mississippi Regional Housing Authority Number 8 | P.O. Box 2347, Gulfport, MS 39503-2347 | 42,844
Mississippi Regional Housing Authority VII | P.O. Box 886, McComb, MS 39649 | 54,934
Mississippi Regional Housing Authority No VI | P.O. Drawer 8746, Jackson, MS 39284-8746 | 89,384
North Delta Regional Housing Authority | P.O. Box 1148, #4 East Second Street, Clarksdale, MS 38614 | 35,159
Housing Authority of the City of Jackson | 2747 Livingston Road, Jackson, MS 39283 | 47,790
Mississippi Regional Housing Authority Number VII | P.O. Box 886, McComb, MS 39649 | 24,906
Housing Authority of Billings | 2415 First Avenue North, Billings, MT 59101 | 39,058
Helena Housing Authority | 812 Abbey Street, Helena, MT 59601 | 47,852
Missoula Housing Authority | 1235 34th Street, Missoula, MT 59801 | 72,139
Housing Authority of the City of Wilmington, NC | 1524 South 16th Street, Wilmington, NC 28402 | 105,182
Charlotte Housing Authority | 1301 South Boulevard, Charlotte, NC 28203 | 55,347
Housing Authority of the City of High Point | 500 East Russell Avenue, P.O. Box 1779, High Point, NC 27260 | 56,116
Housing Authority of the City of Asheville | 165 South French Broad Avenue, Asheville, NC 28801 | 32,972
Greensboro Housing Authority | P.O. Box 21287, 450 North Church Street, Greensboro, NC 27420-1287 | 81,986
Housing Authority of the City of Winston-Salem | 901 Cleveland Avenue, Winston-Salem, NC 27101 | 51,005
Housing Authority of the Town of Laurinburg | P.O. Box 1437, Laurinburg, NC 28353 | 58,147
Housing Authority of the County of Wake | Post Office Box 399, 100 Shannon Street, Zebulon, NC 27597 | 35,704
Statesville Housing Authority | 110 West Allison Street, Statesville, NC 28677 | 48,545
Chatham County Housing Authority | P.O. Box 637, 190 Sanford Road, Pittsboro, NC 27312-0637 | 40,870
Western Carolina Community Action | P.O. Box 685, 526 Seventh Avenue East, Hendersonville, NC 28793 | 35,964
Coastal Community Action, Inc. | P.O. Box 729, 303 McQueen Street, Newport, NC 28570 | 35,481
Eastern Carolina Human Services Agency, Inc. | 246 Georgetown Road, P.O. Drawer 796, Jacksonville, NC 28540 | 25,599
Economic Improvement Council, Inc. | Post Office Box 549, 712 Virginia Road, Edenton, NC 27932 | 33,864
Brunswick County Public Housing Agency | PO Box 9, 60 Government Center Drive, North East, Bolivia, NC 28422 | 25,352
Sandhills Community Action Program, Inc. | 103 Saunders Street, P.O. Box 937, Carthage, NC 28327 | 31,638
Twin Rivers Opportunities | 318 Craven Street, New Bern, NC 28563 | 42,210
Mountain Projects, Inc. | 2251 Old Balsam Road, Waynesville, NC 28786 | 31,815
Isothermal Planning & Development Commission | P.O. Box 841, 111 West Court Street, Rutherfordton, NC 28139-0841 | 33,703
Gastonia Housing Authority | P.O. Box 2398, 340 West Long Avenue, Gastonia, NC 28053-2398 | 45,000
Western Carolina Community Action | P.O. Box 685, 526 Seventh Avenue East, Hendersonville, NC 28793 | 18,720
Housing Authority of the City of Asheville | 165 South French Broad Avenue, Asheville, NC 28801 | 36,000
Statesville Housing Authority | 110 West Allison Street, Statesville, NC 28677 | 43,215
Housing Authority of the County of Wake | Post Office Box 399, 100 Shannon Street, Zebulon, NC 27597 | 34,000
Housing Authority of the City of Grand Forks, North Dakota | 1405 1 Avenue North, Grand Forks, ND 58203 | 83,507
Fargo Housing and Redevelopment Authority | 325 Broadway, Box 430, Fargo, ND 58107 | 39,345
Minot Housing Authority | 108 Burdick Expressway East, Minot, ND 58701 | 40,764
Housing Authority of the City of Omaha | 540 South 27 Street, Omaha, NE 68105 | 82,445
Housing Authority of the City of Lincoln | 5700 R Street, Lincoln, NE 68505 | 57,419
Douglas County Housing Authority | 5405 North 107th Plaza, Omaha, NE 68134 | 40,804
Manchester Housing and Redevelopment Authority | 198 Hanover Street, Manchester, NH 3104 | 42,390
Dover Housing Authority | 62 Whittier Street, Dover, NH 03820-2994 | 55,729
New Hampshire Housing Finance Authority | 32 Constitution Drive, Bedford, NH 03110 | 151,365
Keene Housing Authority | 105 Castle Street, Keene, NH 03431 | 35,370
Housing Authority of the City of Newark | 500 Broad Street, 6th Floor, Newark, NJ 07102 | 62,808
Housing Authority of the City of Perth Amboy | 881 Amboy Avenue, P.O. Box 390, Perth Amboy, NJ 08862 | 99,520
Long Branch Housing Authority | P.O. Box 337, Long Branch, NJ 07740 | 43,354
Housing Authority of the City of Jersey City | 400 U.S. Highway #1, Jersey City, NJ 07306 | 108,527
Housing Authority of the City of Camden | 1300 Admiral Wilson Boulevard, Camden, NJ 08102 | 38,380
Passaic Housing Authority | 333 Passaic Street, Passaic, NJ 07055 | 37,814
Atlantic City Housing Authority | 227 North Vermont Avenue, 17th Floor, Atlantic City, NJ 08401 | 36,774
Housing Authority of the City of Patterson | 60 Van Houten Street, Paterson, NJ 07505 | 48,199
Housing Authority of the Township of Woodbridge | 20 Bunns Lane, Woodbridge, NJ 07095 | 39,886
Housing Authority of the City of East Orange | 160 Halsted Street, East Orange, NJ 07018 | 63,000
Millville Housing Authority | P.O. Box 803, 309 Buck Street, Millville, NJ 08332 | 35,195
Housing Authority of the Township of Brick | 165 Chambers Bridge Road, Brick, NJ 08723 | 15,271
Housing Authority of the Town of Dover | 215 East Blackwell Street, Dover, NJ 07801 | 61,074
Housing Authority of the Borough of Fort Lee | 1403 Teresa Drive, Fort Lee, NJ 07024 | 47,945
Monmouth County Public Housing Agency | P.O. Box 3000, Freehold, NJ 07728 | 126,000
Warren County Housing Authority | 415B Front Street, Belvidere, NJ 07823 | 63,000
Housing Authority of the Borough of Madison | 15 Chateau Thierry Avenue, Madison, NJ 07940 | 52,520
Housing Authority of Gloucester County | 100 Pop Moylan Boulevard, Deptford, NJ 08096 | 37,541
Lakewood Tenants Organization | 600 West Kennedy Boulevard, Lakewood, NJ 08701 | 48,177
County of Burlington | P.O. Box 6000, Mount Holly, NJ 08060 | 56,256
New Jersey Department of Community Affairs | P.O. Box 051, 101 South Broad Street, Trenton, NJ 08625-0051 | 693,000
Housing Authority of the Township of Lakewood | 317 Sampson Avenue, Lakewood, NJ 08701 | 63,000
Long Branch Housing Authority | P.O. Box 337, Long Branch, NJ 07740 | 49,200
Lakewood Tenants Organization | 600 West Kennedy Boulevard, Lakewood, NJ 08701 | 63,000
New Jersey Department of Community Affairs | P.O. Box 051, 101 South Broad Street, Trenton, NJ 08625-0051 | 62,976
Housing Authority of the City of East Orange | 160 Halsted Street, East Orange, NJ 07018 | 63,000
Housing Authority of Gloucester County | 100 Pop Moylan Boulevard, Deptford, NJ 08096 | 47,177
Atlantic City Housing Authority | 227 North Vermont Avenue, 17th Floor, Atlantic City, NJ 08401 | 49,646
The Housing Authority of the City of Newark | 500 Broad Street, 6th Floor, Newark, NJ 07102 | 63,000
Housing Authority of the City of Jersey City | 400 U.S. Highway #1, Jersey City, NJ 07306 | 63,000
Truth or Consequences Housing Authority | 108 South Cedar, Truth or Consequences, NM 87901 | 43,864
Sante Fe County Housing Authority | 52 Camino de Jacobo, Santa Fe, NM 87507 | 44,081
Bernalillo County | 1900 Bridge Boulevard, Southwest, Albuquerque, NM 87105 | 49,134
Region VI Housing Authority | 106 East Reed Street, P.O. Drawer 2057, Roswell, NM 88202 | 53,025
Region IV Housing Authority Eastern Plains Council of Governments | 418 Main Street, Clovis, NM 88101 | 26,966
Clovis Housing & Redevelopment Agency Inc. | P.O. Box 1240, 2101 West Grand Avenue, CLOVIS, NM 88102-1240 | 32,844
Socorro County Housing Authority | P.O. Box 00, 106 Center Street, Socorro,, NM 87801 | 22,841
Santa Fe County Housing Authority | 52 Camino de Jacobo, Santa Fe, NM 87507 | 61,500
Bernalillo County | 1900 Bridge Boulevard, Southwest, Albuquerque, NM 87105 | 63,000
Housing Authority of the City of Reno | 1525 East 9th Street, Reno, NV 89512-3012 | 41,757
Housing Authority of the City of Las Vegas | 420 North 10th Street, Las Vegas, NV 89101 | 125,240
Housing Authority of the City of North Las Vegas | 1635 Yale Street, North Las Vegas, NV 89030 | 48,659
Housing Authority of the County of Clark, Nevada | 5390 East Flamingo Road, Las Vegas, NV 89122 | 106,061
The Housing Authority of the County of Clark, Nevada | 5390 East Flamingo Road, Las Vegas, NV 89122 | 63,000
Housing Authority of the City of Las Vegas | 420 North 10th Street, Las Vegas, NV 89101 | 62,000
Housing Authority of the City of North Las Vegas | 1635 Yale Street, North Las Vegas, NV 89030 | 58,504
Monticello Housing Authority | 76 Evergreen Drive, Monticello, NY 12701 | 34,683
North Hempstead Housing Authority | Pond Hill Road, Great Neck, NY 11020 | 40,804
New York City Department of Preservation and Development | 100 Gold Street, New York City, NY 10038 | 784,793
Town of Babylon | 281 Phelps Lane, Room 9, North Babylon, NY 11703-4006 | 46,715
The City of Poughkeepsie | P.O. Box 300, Poughkeepsie, NY 12602 | 43,159
Town of Smithtown | 99 West Main Street, PO Box 575, Smithtown, NY 11787 | 46,826
Village of Kiryas Joel Housing Authority | 51 Forest Road, Suite 360, Monroe, NY 10950 | 63,000
New York State Division of Housing & Community Renewal | 25 Beaver Street, Room 732, New York, NY 10004 | 923,509
Syracuse Housing Authority | 516 Burt Street, Syracuse, NY 13202 | 93,603
Albany Housing Authority | 200 South Pearl Street, Albany, NY 12202-1834 | 88,757
Cohoes Housing Authority | 100 Manor Sites, Cohoes, NY 12047 | 36,512
City of Oswego | 20 West Oneida Street, 3rd Floor, Oswego, NY 13126 | 44,408
Schenectady Municipal Housing Authority | 375 Broadway, Schenectady, NY 12305 | 90,115
Rochester Housing Authority | 675 West Main Street, Rochester, NY 14611 | 109,646
Gloversville Housing Authority | 181 West Street, Gloversville, NY 12078 | 46,349
Ithaca Housing Authority | 798 South Plain Street, Ithaca, NY 14850 | 60,120
Amsterdam Housing Authority | 52 Division Street, Amsterdam, NY 12010 | 47,505
City of Niagara Falls | P.O. Box 69, 1022 Main Street, Niagara Falls, NY 14302 | 44,927
City of Tonawanda PHA; Belmont Shelter Corp Agent | 1195 Main Street, Buffalo, NY 14209 | 45,792
Town of Colonie | 242 Union Street, Schenectady, NY 12305 | 49,553
Rental Assistance Corporation of Buffalo | 470 Franklin Street, Buffalo, NY 14202 | 102,210
Town of Guilderland | 242 Union Street, Schenectady, NY 12305 | 49,036
Town of Bethlehem | 242 Union Street, Schenectady, NY 12305 | 24,518
City of Utica Section 8 Program | 1 Kennedy Plaza, Utica, NY 13502 | 28,563
Village of Scotia | c/o Joseph E. Mastrianni, Inc., 242 Union Street, Schenectady, NY 12305 | 27,112
Town of Rotterdam | 242 Union Street, Schenectady, NY 12305 | 51,622
Village of Corinth | 242 Union Street, Schenectady, NY 12305 | 31,311
Town of Coeymans | c/o Joseph E. Mastrianni, Inc., 242 Union Street, Schenectady, NY 12305 | 24,518
Village of Ballston Spa | 242 Union Street, Schenectady, NY 12305 | 31,311
New York State Division of Housing & Community Renewal | 25 Beaver Street, Room 732, New York, NY 10004 | 243,296
Erie County PHA Consortium; Belmont Shelter Corp Agent | Belmont Shelter Corporation, 1195 Main Street, Buffalo, NY 14209 | 98,907
Erie County PHA Consortium; Belmont Shelter Corp. Agent | Belmont Shelter Corporation, 1195 Main Street, Buffalo, NY 14209 | 40,960
Rochester Housing Authority | 675 West Main Street, Rochester, NY 14611 | 46,121
Rental Assistance Corporation of Buffalo | 470 Franklin Street, Buffalo, NY 14202 | 43,107
Cincinnati Metropolitan Housing Authority | 16 West Central Parkway, Cincinnati, OH 45202 | 209,401
Dayton Metropolitan Housing Authority | P.O. Box 8750, 400 Wayne Avenue, Dayton, OH 45401-8750 | 75,334
Adams Metropolitan Houisng Authority | 401 East Seventh Street, Manchester, OH 45144 | 37,386
Hamilton County Public Housing Authority | 138 East Court Street, Room 507, Cincinnati, OH 45202 | 126,000
City of Middletown, Ohio | 1040 Central Avenue, Middletown, OH 45044-4009 | 77,528
Youngstown Metropolitan Housing Authority | 131 West Boardman Street, Youngstown, OH 44503 | 83,084
Cuyahoga Metropolitan Housing Authority | 2711 Church Street, Cleveland, OH 44113 | 42,844
Lucas Metropolitan Housing Authority | 435 Nebraska Avenue, Toledo, OH 43697-0477 | 131,633
Akron Metropolitan Housing Authority | 100 West Cedar Street, Akron, OH 44307-2502 | 104,580
Trumbull Metropolitan Housing Authority | 4076 Youngstown Road, Southeast, Suite 101, Warren, OH 44484 | 63,000
Lorain Metropolitan | 1600 Kansas Avenue, Lorain, OH 44052 | 48,412
Jefferson Metropolitan Housing Authority | 815 North 6th Avenue, Steubenville, OH 43952 | 50,184
Lake Metropolitan Housing Authority | 189 First Street, Painesville, OH 44077 | 74,202
Medina Metropolitan Housing Authority | 850 Walter Road, Medina, OH 44256 | 79,260
Erie Metropolitan Housing Authority | 322 Warren Street, Sandusky, OH 44870 | 48,659
Portage Metropolitan Housing Authority | 2832 State Route 59, Ravenna, OH 44266 | 36,234
Wayne Metropolitan Housing Authority | 200 South Market Street, Wooster, OH 44691 | 41,416
Tuscarawas Metropolitan Housing Authority | 134 Second Street Southwest, New Philadelphia, OH 44663 | 52,474
Hancock Metropolitan Housing Authority | 604 Lima Avenue, Findlay, OH 45840 | 27,939
Columbus Metropolitan Housing Authority | 880 East 11th Avenue, Columbus, OH 43211 | 92,500
Zanesville Metropolitan Housing Authority | 407 Pershing Road, Zanesville, OH 43701 | 104,599
Springfield Metropolitan Housing Authority | 437 East John Street, Springfield, OH 45505 | 42,057
Chillicothe Metropolitan Housing Authority | 178 West Fourth Street, Chillicothe, OH 45601 | 32,643
Cambridge Metropolitan Housing Authority | 1100 Maple Court, Cambridge, OH 43725 | 31,258
Jackson Metropolitan Housing Authority | 249 West 13th Street, P.O. Box 619, Wellston, OH 45692 | 39,453
Allen Metropolitan Housing Authority | 600 South Main Street, Lima, OH 45804 | 37,232
Fayette Metropolitan Housing Authority | 121 E East Street, Washington Court House, OH 43160 | 31,623
Pickaway Metropolitan Housing Authority | 176 Rustic Drive, Circleville, OH 43113 | 33,990
Pike Metropolitan Housing Authority | 2626 Shyville Road, Piketon, OH 45661 | 33,330
Morgan Metropolitan Housing Authority | 4580 North Street Route 376, Northwest, McConnelsville, OH 43756 | 43,864
Fairfield Metropolitan Housing Authority | 1506 Amherst Place, Lancaster, OH 43130 | 46,359
Logan County Metropolitan Housing Authority | 116 North Everett Street, Bellefontaine, OH 43311 | 72,125
City of Marietta, Ohio PHA | 304 Putnam Street, Marietta, OH 45750 | 43,314
Vinton Metropolitan Housing Authority | PO Box 487, 310 West High Street, McArthur, OH 45651 | 36,484
Delaware Metropolitan Housing Authority | P.O. Box 1292, 222 Curtis Street, Delaware, OH 43015 | 44,277
Chillicothe Metropolitan Housing Authority | 178 West Fourth Street, Chillicothe, OH 45601 | 16,400
Vinton Metropolitan Housing Authority | PO Box 487, 310 West High Street, McArthur, OH 45651 | 36,484
Medina Metropolitan Housing Authority | 850 Walter Road, Medina, OH 44256 | 35,360
Akron Metropolitan Housing Authority | 100 West Cedar Street, Akron, OH 44307-2502 | 47,862
Oklahoma City Housing Authority | 1700 Northeast Fourth Street, Oklahoma City, OK 73117-3800 | 29,645
Housing Authority of the City of Tulsa | 415 East Independence, Tulsa, OK 74106 | 64,617
Housing Authority of the City of Shawnee, OK | P.O. Box 3427, 601 West 7th Street, Shawnee, OK 74802-3427 | 48,691
City of Norman Housing Authority | 700 North Berry Road, Norman, OK 73069 | 42,933
Housing Authority of the City of Stillwater | 807 South Lowry, Stillwater, OK 74074 | 41,734
Oklahoma Housing Finance | 100 Northwest 63rd Street, Oklahoma City, OK 73126 | 44,440
Housing Authority of Clackamas County | PO Box 1510, 13930 S. Gain Street, Oregon City, OR 97045-0510 | 62,355
Housing Authority of Portland | 135 South West Ash Street, Portland, OR 97204 | 222,561
Housing Authority of Douglas County | 902 W Stanton, Roseburg, OR 97470 | 53,025
Housing Authority of Lincoln County | P.O. Box 1470, Newport, OR 97365 | 34,612
Housing and Community Services Agency of Lane County | 177 Day Island Road, Eugene, OR 97401 | 102,625
Housing Authority & Urban Renewal Agency of Polk County dba West Valley HA | PO Box 467, 204 SW Walnut Avenue, Dallas, OR 97338-0467 | 32,086
Housing Authority of the City of Salem | P.O. Box 808, 360 Church Street South East, Salem, OR 97308-0808 | 124,490
Marion County Housing Authority | PO Box 14500, 555 Court Street Northeast, Salem, OR 97309 | 48,695
Housing Authority of Jackson County | 2251 Table Rock Road, Medford, OR 97501 | 92,033
Housing Authority of Yamhill County | PO Box 865, 414 NE Evans Street, McMinnville, OR 97128 | 98,754
Linn-Benton Housing Authority | 1250 Queen Avenue South East, Albany, OR 97322 | 113,684
Housing Authority of Washington County | 111 North East Lincoln, Suite 200-L, Hillsboro, OR 97124 | 97,152
Mid Columbia Housing Authority | 312 Court Street, Suite #419, The Dalles, OR 97058 | 43,571
Housing Authority of Malheur County | 959 Fortner Street, Ontario, OR 97914 | 22,249
Northeast Oregon Housing Authority | P.O. Box 3357, La Grande, OR 97850 | 80,078
Central Oregon Regional Housing Authority | 405 SW 6th Street, Redmond, OR 97756 | 39,996
Mid Columbia Housing Authority | 312 Court Street, Suite #419, The Dalles, OR 97058 | 35,412
Housing Authority of the City of Salem | P.O. Box 808, 360 Church Street South East, Salem, OR 97308-0808 | 62,248
Housing Authority of Yamhill County | PO Box 865, 414 NE Evans Street, McMinnville, OR 97128 | 43,818
Montgomery County Housing Authority | 104 West Main Street, Suite #1, Norristown, PA 19401 | 39,125
Housing Authority of the City of York | P.O. Box 1963, 31 South Broad Street, York, PA 17405 | 39,119
Housing Authority of the County of Delaware | 1855 Constitution Avenue, P.O. Box 100, Woodlyn, PA 19094 | 41,400
Housing Authority of the County of Dauphin | 501 Mohn Street, Steelton, PA 17113 | 78,632
Housing Authority of the City of Lancaster | 325 Church Street, Lancaster, PA 17602-4201 | 98,568
Housing Authority of the County of Chester | 30 West Barnard Street, Suite 2, West Chester, PA 19382 | 51,434
Sunbury Housing Authority | P.O. Box 458, 705 Market Street, Sunbury, PA 17801 | 12,120
Housing Authority of Northumberland County | 50 Mahoning Street, Milton, PA 17847 | 31,912
Williamsport Housing Authority | 605 West Fourth Street, Williamsport, PA 17701 | 35,542
Housing/Redevelopment Authority of Cumberland County | 114 North Hanover Street, Carlisle, PA 17013 | 38,009
Lancaster County Housing Authority | 150 North Queen Street, Suite 110, Lancaster, PA 17603-3562 | 49,284
Adams County Housing Authority | 40 East High Street, Gettysburg, PA 17325 | 45,450
Housing Authority City of Pittsburgh | 200 Ross Street, Suite 9, Pittsburgh, PA 15219 | 84,024
Housing Authority of the County of Butler | 114 Woody Drive, Butler, PA 16001 | 42,844
Fayette County Housing Authority | 624 Pittsburgh Road, Uniontown, PA 15401 | 40,400
Westmoreland County Housing Authority | P.O. Box 223, R.D. #6, South Greengate Road, Greensburg, PA 15601 | 81,112
Allegheny County Housing Authority | 625 Stanwix Street, 12th Floor, Pittsburgh, PA 15222 | 44,500
Housing Authority of the County of Butler | 114 Woody Drive, Butler, PA 16001 | 42,844
Lancaster County Housing Authority | 150 North Queen Street, Suite 110, Lancaster, PA 17603-3562 | 49,284
Housing Authority City of Pittsburgh | 200 Ross Street, Suite 9, Pittsburgh, PA 15219 | 50,000
Housing Authority of the County of Dauphin | 501 Mohn Street, Steelton, PA 17113 | 37,240
Municipality of Juana Diaz | P.O. Box 1409, Juana Diaz, PR 00795-1409 | 21,125
Municipality of Aguas Buenas | P.O. Box 128, Aguas Buenas, PR 00703-0128 | 22,398
Municipality of Luquillo | 14 DE Julio Street, PR, 00773 | 63,000
Municipio De Hormigueros | 1 Mateo Fajardo Street, Hormigueros, PR 00660-0097 | 19,927
Providence Housing Authority | 100 Broad Street, Providence, RI 2903 | 120,342
Woonsocket Housing Authority | 679 Social Street, Woonsocket, RI 02895 | 10,507
Town of Cumberland Housing Authority | 573 Mendon Road, Suite 4, Cumberland, RI 02864 | 44,034
Coventry Housing Authority | 14 Manchester Circle, Coventry, RI 02816 | 46,733
North Providence Housing Authority | 945 Charles Street, North Providence, RI 02904 | 13,130
Housing Authority of the Town of East Greenwich | 146 First Avenue, East Greenwich, RI 02818 | 63,000
Narragansett Housing Authority | 25 Fifth Avenue, P.O. Box 388, Narragansett, RI 02882 | 73,447
Rhode Island Housing and Mortgage Finance Corporation | 44 Washington Street, Providence, RI 02903 | 46,277
North Providence Housing Authority | 945 Charles Street, North Providence, RI 02904 | 40,000
Housing Authority of the City of Charleston | 550 Meeting Street, Charleston, SC 29403 | 46,024
Housing Authority of the City of Columbia, South Carolina | 1917 Harden Street, Columbia, SC 29204-1015 | 37,123
Housing Authority of the City of Spartanburg, SC | PO Box 2828, 325 South Church Street, Spartanburg, SC 29306 | 38,246
Housing Authority of the City of Greenville, South Carolina | P.O. Box 10047, Greenville, SC 29603 | 31,428
Beaufort Housing Authority | P.O. Box 1104, 1009 Prince Street, Beaufort, SC 29901 | 24,479
Housing Authority of Florence | P.O. Box 969, 400 East Pine Street, Florence, SC 29503 | 39,000
Housing Authority of the City of Greenwood | Post Office Box 973, Greenwood, SC 29648 | 36,331
Myrtle Beach Housing Authority | P.O. Box 2468, 605 10th Avenue North, Myrtle Beach, SC 29578 | 77,790
Housing Authority of Anderson | 1335 East River Street, Anderson, SC 29624 | 36,384
Housing Authority of the City of North Charleston | 2170 Ashley Phosphate Road, Suite 700, North Charleston, SC 29406 | 40,000
Housing & Redevelopment Authority of Marlboro County | P.O. Box 969, 400 East Pine Street, Florence, SC 29503 | 23,230
South Carolina State Housing Finance & Development Authority | 919 Bluff Road, Columbia, SC 29201 | 42,019
Beaufort Housing Authority | P.O. Box 1104, 1009 Prince Street, Beaufort, SC 29901 | 31,273
The Housing Authority of the City of Spartanburg, SC | PO Box 2828, 325 South Church Street, Spartanburg, SC 29306 | 42,000
The Housing Authority of the City of Charleston | 550 Meeting Street, Charleston, SC 29403 | 44,467
Housing Authority of the City of Columbia, South Carolina | 1917 Harden Street, Columbia, SC 29204-1015 | 37,122
Sioux Falls Housing and Redevelopment Commission | 630 South Minnesota Avenue, Sioux Falls, SD 57104-4825 | 70,192
Knoxville Community Development Corporation | 901 North Broadway, P.O. Box 3550, Knoxville, TN 37917 | 84,766
Chattanooga Housing Authority | P.O. Box 1486, 505 W.M.L. King Jr. Boulevard, Chattanooga, TN 37401 | 108,450
Kingsport Housing & Redevelopment Authority | P.O. Box 44, Kingsport, TN 37662 | 37,354
Crossville Housing Authority | 67 Irwin Street, Crossville, TN 38555 | 48,215
Oak Ridge Housing Authority | 10 Van Hicks Lane, Oak Ridge, TN 37830 | 34,525
East Tennessee Human Resource Agency, Inc | 9111 Cross Park Drive, D-100, Knoxville, TN 37923 | 32,817
Southeast Tennessee Human Resource Agency | P.O. Box 909, 1012 Resource Road, Dunlap, TN 37327 | 45,044
Memphis Housing Authority | 701 Adams Avenue, Memphis, TN 38105 | 45,501
Jackson Housing Authority | 125 Preston Street, Jackson, TN 38301 | 86,798
Metropolitan Development & Housing Agency | 701 South 6th Street, Nashville, TN 37206 | 123,747
Tennessee Housing Development Agency | 404 James Robertson Parkway, Suite 1114, Nashville, TN 37243-0900 | 154,485
Kingsport Housing & Redevelopment Authority | P.O. Box 44, Kingsport, TN 37662 | 37,354
Metropolitan Development & Housing Agency | 701 South 6th Street, Nashville, TN 37206 | 51,322
Housing Authority of the City of El Paso | 5300 Paisano Drive, El Paso, TX 79905 | 81,422
Housing Authority of the City of Fort Worth | 1201 E. 13th Street, Fort Worth, TX 76102 | 42,232
Housing Authority of the City of Dallas, Texas | 3939 North Hampton, Dallas, TX 75212 | 281,360
Housing Authority of the City of Waco | P.O. Box 978, 4400 Cobbs Drive, Waco, TX 76703-0978 | 69,639
Housing Authority of the City of Lubbock | 1708 Avenue G, Lubbock, TX 79401 | 28,008
Beaumont Housing Authority | 4925 Concord, Beaumont, TX 77708 | 40,400
Housing Authority of the City of Plano | 1111 Avenue H., Building A, Plano, TX 75074 | 34,681
Tarrant County | 100 East Weatherford, Suite 500, Fort Worth, TX 76196 | 42,527
Arlington Housing Authority | 501 West Sanford Street, Suite 20, Arlington, TX 76011 | 102,182
City of Garland Housing Agency | 210 Carver, Suite 201B, Garland, TX 75040 | 48,876
Housing Authority of the City of Anthony | P.O. Box 1710, 1007 Franklin Street, Anthony, TX 79821 | 36,875
City of Longview Housing/Community Development | P.O. Box 1952, Longview, TX 75606 | 57,189
Deep East Texas Council of Governments | 274 East Lamar Street, Jasper, TX 75951 | 61,873
Midland County Housing Authority | 1710 Edwards, Midland, TX 79701 | 40,005
Texas Council of Governments | 1117 Gallagher Drive, Sherman, TX 75090 | 36,688
Housing Authority of the City of Houston | 2640 Fountain View Drive, Houston, TX 77057 | 76,532
Galveston Housing Authority | 4700 Broadway, Galveston, TX 77551 | 46,949
Brazos Valley Council of Governments | P.O. Drawer 4128, Bryan, TX 77805 | 147,003
Montgomery County Housing Authority | 1022 McCall, Conroe, TX 77301 | 36,562
Housing Authority of the City of Austin | 1640 East 2nd Street, Austin, TX 78702 | 83,113
Housing Authority of the City of San Antonio | 818 S. Flores Street, San Antonio, TX 78204 | 123,434
Housing Authority of the City of Brownsville | P.O. Box 4420, 2606 Boca Chica Boulevard, Brownsville, TX 78523 | 71,682
Laredo Housing Authority | 2000 San Francisco Ave., Laredo, TX 78040 | 45,054
Mission Houisng Authority | 906 East 8th Street, Mission, TX 78572 | 30,603
Pharr Housing Authority | 211 West Audrey, Pharr, TX 78577 | 28,563
City of San Marcos Housing Authority | 1201 Thorpe Lane, San Marcos, TX 78666 | 38,380
Housing Authority of the City of Kingsville | 1000 West Corral, Kingsville, TX 78363 | 51,170
Housing Authority of Travis County | 2200 East Martin Luther King Boulevard, Austin, TX 78702 | 35,704
Cameron County Housing Authority | P.O. Box 5806, 65 Castellano Circle, Brownsville, TX 78521 | 82,862
City of Amarillo | 509 East 7th, P.O. Box 1971, Amarillo, TX 79105-1971 | 34,262
Pharr Housing Authority | 211 West Audrey, Pharr, TX 78577 | 29,000
The Housing Authority of City of Dallas, Texas | 3939 North Hampton, Dallas, TX 75212 | 54,000
Beaumont Housing Authority | 4925 Concord, Beaumont, TX 77708 | 37,000
Mission Housing Authority | 906 East 8th Street, Mission, TX 78572 | 29,000
Tarrant County | 100 East Weatherford, Suite 500, Fort Worth, TX 76196 | 63,000
Housing Authority of the City of Ogden | 2661 Washington Boulevard, Ogden, UT 84401 | 54,307
Housing Authority of the County of Salt Lake | 3595 South Main Street, Salt Lake City, UT 84115 | 86,620
Housing Authority of Salt Lake City | 1776 South West Temple, Salt Lake City, UT 84115 | 96,354
Cedar City Houisng Authority | 364 South 100 East, Cedar City, UT 84720 | 33,330
Cedar City Housing Authority | 364 South 100 East, Cedar City, UT 84720 | 17,000
Newport News Redevelopment & Housing Authority | P.O. Box 797, Newport News, VA 23607 | 92,124
Norfolk Redevelopment and Housing Authority | 201 Granby Street, Norfolk, VA 23510 | 98,173
Richmond Redevelopment Housing Authority | P.O. Box 26887, Richmond, VA 23261 | 62,620
Roanoke Redevelopment and Housing Authority | 2624 Salem Turnpike, Northwest, Roanoke, VA 24017 | 48,480
Chesapeake Redevelopment & Housing Authority | 1468 South Military Highway, Chesapeake, VA 23320 | 47,557
Hampton Redevelopment and Housing Authority | Post Office Box 280, Hampton, VA 23669 | 44,139
Petersburgh Redevelopment and Housing Authority | P.O. Box 311, 128 South Sycamore Street, Petersburgh, VA 23803-0311 | 43,430
Waynesboro Redevelopment and Housing Authority | 1700 New Hope Road, Waynesboro, VA 22980 | 36,810
City of Virginia Beach | 2424 Courthouse Drive, Municipal Center, Bldg. 18-A, Virginia Beach, VA 23456 | 46,498
James City County | 5248 Olde Towne Road, Suite 10, Williamsburg, VA 23188 | 45,650
Virginia Housing Development Authority | 601 South Belvidere Street, Richmond, VA 23220 | 186,561
Fairfax County Redevelopment and Housing Authority | 3700 Pender Drive, Suite 300, Fairfax, VA 22030 | 63,000
County of Loudon | 102 Heritage Way, North East, Suite 103, Leesburg, VA 20176 | 63,000
Prince William County Office of Housing and Community Development | 15941 Donald Curtis Drive, Suite 112, Woodbridge, VA 22191 | 52,293
Danville Redevelopment and Housing Authority | 651 Cardinal Place, Danville, VA 24541 | 34,000
Harrisonburg Redevelopment and Housing Authority | P.O. Box 1071, Harrisonburg, VA 22803 | 22,628
Richmond Redevelopment Housing Authority | P.O. Box 26887, Richmond, VA 23261 | 63,000
Newport News Redevelopment & Housing Authority | P.O. Box 797, Newport News, VA 23607 | 35,763
Burlington Housing Authority | 65 Main Street, Burlington, VT 05401 | 95,794
Vermont State Housing Authority | One Prospect Street, Montpelier, VT 05602 | 178,109
Seattle Housing Authority | 120 6th Avenue North, PO Box 19028, Seattle, WA 98109-1028 | 201,321
King County Housing Authority | 600 Andover Park West, Tukwila, WA 98188 | 126,000
Housing Authority of the City of Bremerton | P.O. Box 4460, 110 Russell Road, Bremerton, WA 98312 | 41,574
Housing Authority of the County of Clallam | 2603 South Francis Street, Port Angeles, WA 98362 | 44,357
Housing Authority of the City of Tacoma | 902 South L Street, Tacoma, WA 98405 | 63,000
Housing Authority of the City of Everett | 3107 Colby Avenue, P.O. Box 1547, Everett, WA 98201 | 69,468
City of Longview Housing Authority | 1207 Commerce Avenue, Longview, WA 98632 | 35,357
Housing Authority City of Kelso | 1415 South Tenth, Kelso, WA 98626 | 22,394
Housing Authority of Island County | 7 Northwest 6th Street, Coupeville, WA 98239-3400 | 45,471
Bellingham Whatcom County Housing Authority | P.O. Box 9701, 208 Unity Street, Bellingham, WA 98227-9701 | 39,394
Kitsap Consolidated Housing Authority | 9307 Bayshore Drive, Northwest, Silverdale, WA 98383 | 95,531
Housing Authority of Snohomish Authority | 12625 4th Avenue West, Suite 200, Everett, WA 98204 | 52,564
Housing Authority of Thurston County | 503 West Fourth Avenue, Olympia, WA 98501-1009 | 126,000
Pierce County Housing Authority | 603 South Polk Street, Tacoma, WA 98444 | 63,000
Spokane Housing Authority | 55 West Mission, Suite 104, Spokane, WA 99201 | 102,842
Housing Authority of Chelan & the City of Wenatchee | 1555 South Methow, Wenatchee, WA 98801 | 15,302
Housing Authority of Jefferson County | 5210 Kuhn Street, Port Townsend, WA 98368 | 36,724
Housing Authority of the City of Vancouver | 2500 Main Street, Suite 200, Vancouver, WA 98660 | 49,543
Pierce County Housing Authority | 603 South Polk Street, Tacoma, WA 98444 | 63,000
Housing Authority of the County of Clallam | 2603 South Francis Street, Port Angeles, WA 98362 | 44,357
Housing Authority of Chelan & the City of Wenatchee | 1555 South Methow, Wenatchee, WA 98801 | 15,301
Seattle Housing Authority | 120 6th Avenue North, PO Box 19028, Seattle, WA 98109-1028 | 60,120
Dunn County Housing Authority | 1421 Stout Road, Menomonie, WI 54751 | 35,580
Housing Authority of Racine County | 837 Main Street, Racine, WI 53403 | 18,262
Brown County Housing Authority | 111 North Jefferson Street, Room 608, Green Bay, WI 54301-5026 | 100,139
City of Kenosha Housing Authority | 625 52nd Street, Room 98, Kenosha, WI 53140-3480 | 46,200
City of Appleton Housing Authority | 925 W. Northland Avenue, Appleton, WI 54914 | 37,222
Walworth County Housing Authority | 35 South Wisconsin Street, Elkhorm, WI 53121 | 35,076
Oconto County Housing Authority | 1201 Main Street, Oconto, WI 54153 | 54,075
Brown County Housing Authority | 111 North Jefferson Street, Room 608, Green Bay, WI 54301-5026 | 47,740
Charleston Housing | P.O. Box 86, Charleston, WV 25321-0086 | 33,370
Housing Authority of the City of Tacoma | 902 South L Street, Tacoma, WA 98405 | 63,000
Housing Authority of the City of Vancouver | 2500 Main Street, Suite 200, Vancouver, WA 98660 | 49,543
Housing Authority of the County of Clallam | 2603 South Francis Street, Port Angeles, WA 98362 | 88,714
Housing Authority of Thurston County | 503 West Fourth Avenue, Olympia, WA 98501-1009 | 126,000
King County Housing Authority | 600 Andover Park West, Tukwila, WA 98188 | 126,000
Kitsap Consolidated Housing Authority | 9307 Bayshore Drive, Northwest, Silverdale, WA 98383 | 95,531
Pierce County Housing Authority | 603 South Polk Street, Tacoma, WA 98444 | 126,000
Seattle Housing Authority | 120 6th Avenue North, PO Box 19028, Seattle, WA 98109-1028 | 261,441
Spokane Housing Authority | 55 West Mission, Suite 104, Spokane, WA 99201 | 102,842
Brown County Housing Authority | 111 North Jefferson Street, Room 608, Green Bay, WI 54301-5026 | 147,879
City of Appleton Housing Authority | 925 W. Northland Avenue, Appleton, WI 54914 | 37,222
City of Kenosha Housing Authority | 625 52nd Street, Room 98, Kenosha, WI 53140-3480 | 46,200
Dunn County Housing Authority | 1421 Stout Road, Menomonie, WI 54751 | 35,580
Housing Authority of Racine County | 837 Main Street, Racine, WI 53403 | 18,262
Oconto County Housing Authority | 1201 Main Street, Oconto, WI 54153 | 54,075
Walworth County Housing Authority | 35 South Wisconsin Street, Elkhorm, WI 53121 | 35,076
Benwood Housing Authority | 2200 Marshall Street, Benwood, WV 26031 | 35,849
Charleston Housing | P.O. Box 86, Charleston, WV 25321-0086 | 33,370
Greenbrier County Housing Authority | Rt 2, Box 142, Lewisburg, WV 24901 | 30,027
Housing Authority of Mingo County | P.O. Box 2239, Williamson, WV 25661 | 31,193
Housing Authority of the City of Buckhannon | 23½ Hinkle Drive, Buckhannon, WV 26201 | 26,390
The Fairmont and Morgantown Housing Authority | P.O. Box 2738, 103 12th Street, Fairmont, WV 26554 | 53,025
The Huntington West Virginia Housing Authority | 300 West 7th Avenue, Huntington, WV 25701 | 35,519

[FR Doc. E6-17723 Filed 10-23-06; 8:45 am]

BILLING CODE 4210-67-P